DEPARTMENT OF HEALTH AND HUMAN SERVICES

National Institutes of Health

Office of the Director, National Institutes of Health; Notice of Meeting

Pursuant to section 10(d) of the Federal Advisory Committee Act, as amended, notice is hereby given of a meeting of the Office of AIDS Research Advisory Council.

The meeting will be open to the public as indicated below, with attendance limited to space available. Individuals who plan to attend and need special assistance, such as sign language interpretation or other reasonable accommodations, should notify the Contact Person listed below in advance of the meeting.

The meeting will be closed to the public in accordance with the provisions set forth in section 552b(c)(9)(B), Title 5 U.S.C., as amended, for the review of recommendations for the HHS Treatment and Prevention Guidelines for medical care of people living with HIV in the United States. Recommendations made from the working group to the OARAC will include drug names, treatment regimens, and prevention modalities to be used for the clinical care of PLWHA. The Council may revise the draft guidelines and change the content or scope of treatment and prevention for HIV/AIDS as recommended in the final guidelines. Premature disclosure of draft guidelines in an open meeting could negatively impact health and safety due to the premature disclosure of information to medical providers and the public. Draft guidelines could be misunderstood and confuse medical providers and the public as to what is the current HHS guidelines for the treatment and prevention of HIV/AIDS, could lead to premature changes in treatment regimens and prevention modalities that affect the health and safety of PLWHA and the public.

Name of Committee: Office of AIDS Research Advisory Council.

Date: November 16, 2017.

Open: 8:30 a.m. to 12:00 p.m.

Agenda: OAR Director's Report, updates from the DHHS HIV Treatment and Prevention Guidelines, OAR Task Force on Cost Sharing, and plans for the Clinical Trials Networks from the National Institute of Allergy and Infectious Diseases.

Place: National Institutes of Health, Room ID13, 5601 Fishers Lane, Bethesda, MD 20892.

Closed: 12:30 p.m. to 1:00 p.m.

Agenda: To evaluate and review recommendations for the HHS Treatment and Prevention Guidelines.

Place: National Institutes of Health, Room ID13, 5601 Fishers Lane, Bethesda, MD 20892.

Open: 1:00 p.m. to 4:30 p.m.

Agenda: Update from the National Heart, Lung, and Blood Institute on the merger of the MACS and WIHS, and updates on HIV/AIDS Research Activities from the Eunice Kennedy Shriver National Institute of Child Health and Human Development and the National Institute on Aging.

Place: National Institutes of Health Room ID13, 5601 Fishers Lane, Bethesda, MD 20892.

Contact Person: Elizabeth S. Church, Ph.D., Executive Secretary , Office of AIDS Research, DPCPSI, Office of the Director, 5601 Fishers Lane, Room 2E-60, Rockville, MD 20852-9830, 240-627-3201, elizabeth.church@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: October 26, 2017.
Natasha M. Copeland,
Program Analyst, Office of Federal Advisory Committee Policy.

[FR Doc. 2017-23641 Filed 10-30-17; 8:45 am]

BILLING CODE 4140-01-P